DEPARTMENT OF TRANSPORTATION

Federal Aviation Administration

14 CFR Part 39

[Docket No. 2001-NM-72-AD; Amendment 39-12345; AD 2001-15-11]

RIN 2120-AA64

Airworthiness Directives; Airbus Model A300 B2; A300 B4; A300 B4-600, B4-600R, and F4-600R (Collectively Called A300-600); A310; A319; A320; A321; A330; and A340 Series Airplanes

AGENCY: Federal Aviation Administration, DOT.

ACTION: Final rule.

SUMMARY: This amendment adopts a new airworthiness directive (AD), applicable to certain Airbus Model A300 B2; A300 B4; A300 B4-600, B4-600R, and F4-600R (collectively called A300-600); A310; A319; A320; A321; A330; and A340 series airplanes, that requires replacement of Labinal actuators in certain powered cockpit seats with new improved actuators. This amendment is prompted by issuance of mandatory continuing airworthiness information by a foreign civil aviation authority. The actions specified by this AD are intended to prevent uncommanded horizontal movement of the cockpit seats or loss of ability to lock the seats in place during flight, which could limit the ability of the crew to perform necessary tasks, leading to reduced controllability of the airplane.

DATES: Effective September 4, 2001.

The incorporation by reference of certain publications listed in the regulations is approved by the Director of the Federal Register as of September 4, 2001.

ADDRESSES: The service information referenced in this AD may be obtained from SOGERMA Z.I. de l'arsenal, BP. 109-17303 Rochefort Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056, telephone (425) 227-2125; fax (425) 227-1149.

SUPPLEMENTARY INFORMATION: A proposal to amend part 39 of the Federal Aviation Regulations (14 CFR part 39) to include an airworthiness directive (AD) that is applicable to Airbus Model A300 B2; A300 B4; A300 B4-600, B4-600R, and F4-600R (collectively called A300-600); A310; A319; A320; A321; A330; and A340 series airplanes, was published in the Federal Register on May 1, 2001 (66 FR 21697). That action proposed to require replacement of Labinal actuators in certain powered cockpit seats with new improved actuators.

Comments

Interested persons have been afforded an opportunity to participate in the making of this amendment. Due consideration has been given to the comments received.

Request To Revise Applicability

One commenter generally concurs with the Notice of Proposed Rulemaking (NPRM) but suggests that the AD be applicable to SOGERMA cockpit seats rather than to the airplane models, because the AD addresses a problem associated with the cockpit seats.

The FAA does not concur and notes that its general policy, when an unsafe condition results from an appliance or other item that is installed on multiple airplane models, is that the AD is issued so that it is applicable to those airplane models, rather than to the item. The reason for this is simple: Making the AD applicable to the airplane models on which the appliance or other item is installed ensures that operators of those airplanes will be notified directly of the unsafe condition and the action required to correct it. While it is assumed that an operator will know the models of airplanes that it operates, there is a potential that the operator will not know or be aware of specific items that are installed on its airplanes. Therefore, calling out the airplane model as the subject of the AD prevents “unknowing non-compliance” on the part of the operator.

Request To Extend Compliance Time

Another comment was submitted by the Air Transport Association, on behalf of one of its member airlines. That comment states that a compliance period of 6 months will not be adequate to complete the required replacement of actuators in the cockpit seats, that the member airline has had no reported failures of the actuators in the last 7 years, and that the replacement should be accomplished during the regularly scheduled “C-check.” The ATA requests that the compliance period be extended to 18 months.

The FAA does not concur with this comment. One reason is that the Direction Generale de l'Aviation Civile (DGAC), which is the airworthiness authority for France, has issued airworthiness directive 2000-524(B), dated December 27, 2000, which specifies a compliance time of 6 months to replace the LABINAL actuators. Another reason is that the airplane manufacturer has reported 2 recent instances of uncommanded movement of the cockpit seats during flight. In consonance with the DGAC and considering the magnitude of the risk involved, the FAA considers 6 months to be an appropriate compliance period. No change to the final rule is necessary in this regard.

Conclusion

After careful review of the available data, including the comments noted above, the FAA has determined that air safety and the public interest require the adoption of the rule as proposed.

Cost Impact

The FAA estimates that 548 airplanes of U.S. registry will be affected by this AD, that it will take approximately 4 work hours per airplane to accomplish the required replacement, and that the average labor rate is $60 per work hour. Required parts will be provided at no cost to the operator. Based on these figures, the cost impact of the AD on U.S. operators is estimated to be $131,520, or $240 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-15-11 Airbus Industrie: Amendment 39-12345. Docket 2001-NM-72-AD.

Applicability: Model A300 B2; A300 B4; A300 B4-600, B4-600R, and F4-600R (collectively called A300-600); A310; A319; A320; A321; A330; and A340 series airplanes; certificated in any category; equipped with powered cockpit seats manufactured by SOGERMA and having the serial numbers listed in SOGERMA Service Bulletin SB TAAI2-25-402, Revision 1, dated December 21, 2000.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent uncommanded horizontal movement of the cockpit seats or loss of ability to lock the seats into place during flight, which could limit the ability of the crew to perform necessary tasks, leading to reduced controllability of the airplane, accomplish the following:

Replacement

(a) Within 6 months after the effective date of this AD: Remove Labinal actuators having part number (P/N) 4136290003 and replace them with Labinal actuators having P/N 4136290004 or 4136290005, or AVIAC actuators having P/N 6147-6, in accordance with SOGERMA Service Bulletin SB TAAI2-25-402, Revision 1, dated December 21, 2000.

Spares

(b) As of the effective date of this AD, no person shall install a powered cockpit seat that has a Labinal actuator having P/N 4136290003 on any airplane.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The replacement shall be done in accordance with SOGERMA Service Bulletin SB TAAI2-25-402, Revision 1, dated December 21, 2000. This incorporation by reference was approved by the Director of the Federal Register in accordance with 5 U.S.C. 552(a) and 1 CFR part 51. Copies may be obtained from SOGERMA Z.I. de l'arsenal, BP. 109-17303 Rochefort Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-524(B), dated December 27, 2000.

Effective Date

(f) This amendment becomes effective on September 4, 2001.

Issued in Renton, Washington, on July 18, 2001.
Donald L. Riggin,
Acting Manager, Transport Airplane Directorate, Aircraft Certification Service.

[FR Doc. 01-18433 Filed 7-30-01; 8:45 am]

BILLING CODE 4910-13-U